DEPARTMENT OF LABOR

Employment and Training Administration

[TA-W-55,674 and TA-W-55,674B]

Winchester Electronics, a Subsidiary of Northrop Grumman Including Leased Workers of Hamilton Connections and Agentry Wallingford, CT; Including an Employee of Winchester Electronics Wallingford, CT Located in Los Altos, CA; Amended Certification Regarding Eligibility To Apply for Worker Adjustment Assistance and Negative Determination Regarding Eligibility To Apply for Alternative Trade Adjustment Assistance

In accordance with section 223 of the Trade Act of 1974 (19 U.S.C. 2273), and section 246 of the Trade Act of 1974 (26 U.S.C. 2813, as amended, the Department of Labor issued a Certification Regarding Eligibility to Apply for Worker Adjustment Assistance and a Negative Determination Regarding Eligibility to Apply for Alternative Trade Adjustment Assistance on October 13, 2004, applicable to workers of Winchester Electronics, a subsidiary of Northrop Grumman, including leased workers of Hamilton Connections and Agentry, Wallingford, Connecticut. The notice was published in the Federal Register on November 12, 2004 (69 FR 65463).

At the request of the State agency, the Department reviewed the certification for workers of the subject firm. New information shows that a worker separation occurred involving an employee of the Wallingford, Connecticut facility of Winchester Electronics located in Los Altos, California. Mr. John Mitchell provided engineering support services for the production of connectors and cable assemblies at the Wallingford, Connecticut location of the subject firm.

Based on these findings, the Department is amending this certification to include an employee of the Wallingford, Connecticut facility of Winchester Electronics, a subsidiary of Northrop Grumman, located in Los Altos, California.

The intent of the Department's certification is to include all workers of Winchester Electronics, a subsidiary of Northrop Grumman, Wallingford, Connecticut, who were adversely affected by a shift in production to Mexico.

The amended notice applicable to TA-W-55,674 is hereby issued as follows:

“All workers of Winchester Electronics, a subsidiary of Northrop Grumman, including leased workers of Hamilton Connections and Agentry, Wallingford, Connecticut (TA-W-55,674), including employees of Winchester Electronics, a subsidiary of Northrop Grumman, Wallingford, Connecticut, located in Portsmouth, New Hampshire (TA-W-55,674A), and Los Altos, California (TA-W-55,674B), who became totally or partially separated from employment on or after September 22, 2003, through October 13, 2006, are eligible to apply for adjustment assistance under section 223 of the Trade Act of 1974;” and

I further determine that all workers of Winchester Electronics, a subsidiary of Northrop Grumman, including leased workers of Hamilton Connections and Agentry, Wallingford, Connecticut, including employees of Winchester Electronics, a subsidiary of Northrop Grumman, Wallingford, Connecticut, located in Portsmouth, New Hampshire, and Los Altos, California, are denied eligibility to apply for alternative trade adjustment assistance under section 246 of the trade Act of 1974.

Signed at Washington, DC, this 4th day of November, 2005.
Richard Church,
Certifying Officer, Division of Trade Adjustment Assistance.

[FR Doc. E5-6317 Filed 11-15-05; 8:45 am]

BILLING CODE 4510-30-P